DEPARTMENT OF THE INTERIOR

National Park Service

[2253-665]

Notice of Inventory Completion: University of Pennsylvania Museum of Archaeology and Anthropology, Philadelphia, PA

AGENCY: National Park Service, Interior.

ACTION: Notice.

Notice is here given in accordance with the Native American Graves Protection and Repatriation Act (NAGPRA), 25 U.S.C. 3003, of the completion of an inventory of human remains in the possession of the University of Pennsylvania Museum of Archaeology and Anthropology, Philadelphia, PA. The human remains were removed from St. Mary Parish (formerly Attkapas County), LA.

This notice is published as part of the National Park Service's administrative responsibilities under NAGPRA, 25 U.S.C. 3003(d)(3). The determinations in this notice are the sole responsibility of the museum, institution, or Federal agency that has control of the Native American human remains. The National Park Service is not responsible for the determinations in this notice.

A detailed assessment of the human remains was made by University of Pennsylvania Museum of Archaeology and Anthropology professional staff in consultation with representatives of the Chitimacha Tribe of Louisiana.

Sometime between 1815 and 1833, human remains representing a minimum of two individuals were removed by Agricole Fuselier (b.1765-d.1839) from a cemetery near his family estate near Jeanerette, St. Mary Parish, LA. Mr. Fuselier “procured the skulls” for Dr. Justus Le Beau, who subsequently sent them to Dr. Samuel Morton through Joseph Barabino, prior to April 1833 (Barabino, Letter to Morton, 1834 January 17, ANSP Archives). At this time, the Academy of Natural Sciences in Philadelphia provided storage space for much of Dr. Morton's collection, including the human remains, until his death in 1851. In 1853, the collection was purchased from Dr. Morton's estate and formally presented to the Academy. In 1966, Dr. Morton's collection, including these human remains (L-606-0043 and L-606-0070), was loaned to the University of Pennsylvania Museum of Archaeology and Anthropology. In 1997, the collection was formally gifted to the museum. No known individuals were identified. No associated funerary objects are present.

Extensive historical documentation, original correspondence, museum records, and Crania Americana (Morton, 1839), identify both sets of human remains as Chitimacha. The human remains exhibit cranial modification. One cranium was either smoked or burned prior to burial, practices which are consistent with the Chitimacha culture, according to the anthropological literature. The remains were collected from a region where the western Chitimacha lived in at least two permanent villages at the time of the first documented encounter between French explorers and the Chitimacha in 1699, and where the Chitimacha Reservation was put into trust in 1919. Representatives from the Chitimacha Tribe of Louisiana indicate that they are familiar with the burial site and are the descendants of the group identified in the historical documents.

Officials of the University of Pennsylvania Museum of Archaeology and Anthropology have determined, pursuant to 25 U.S.C. 3001(9), that the human remains described above represent the physical remains of two individuals of Native American ancestry. Lastly, officials of the University of Pennsylvania Museum of Archaeology and Anthropology have determined, pursuant to 25 U.S.C. 3001(2), that there is a relationship of shared group identity that can be reasonably traced between the Native American human remains and the Chitimacha Tribe of Louisiana.

Representatives of any other Indian tribe that believes itself to be culturally affiliated with the human remains should contact Dr. Richard Hodges, Director, University of Pennsylvania Museum of Archaeology and Anthropology, 3260 South St., Philadelphia, PA 19104-6324, telephone (215) 898-4050, before June 13, 2011. Repatriation of the human remains to the Chitimacha Tribe of Louisiana may proceed after that date if no additional claimants come forward.

The University of Pennsylvania Museum of Archaeology and Anthropology is responsible for notifying the Chitimacha Tribe of Louisiana that this notice has been published.

Dated: May 9, 2011.
Sherry Hutt,
Manager, National NAGPRA Program.

[FR Doc. 2011-11855 Filed 5-12-11; 8:45 am]

BILLING CODE 4310-50-P